DEPARTMENT OF COMMERCE

[I.D. 011102B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Billfish Tagging Report.

Form Number(s): NOAA Form 88-162.

OMB Approval Number: 0648-0009.

Type of Request: Regular submission.

Burden Hours: 62.

Number of Respondents: 750.

Average Hours Per Response: 5 minutes.

Needs and Uses: The National Oceanic and Atmospheric Administration's Southwest Fishery Science Center operates an angler-based billfish tagging program. Tagging supplies are provided to volunteers. When they catch and tag fish, they submit a brief report on the fish tagged and the location of tagging. The information obtained is used in conjunction with tag returns to determine billfish migration patterns, mortality rates, and similar information useful in the management of the fishery.

Affected Public: Individuals or households.

Frequency: On occasion.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: January 10, 2002.
Madeleine Clayton,
Departmental Paperwork Clearance Officer, Office of the Chief Information Officer.

[FR Doc. 02-1139 Filed 1-15-02; 8:45 am]

BILLING CODE 3510-22-S